DEPARTMENT OF LABOR

Employee Benefits Security Administration

Technical Correction of the Texts of Individual Exemption Involving: (1) The Bank of New York Mellon Corporation (74 FR 20990); and (2) UBS AG (UBS), and Its Affiliates UBS Financial Services Inc. (UBS Financial) and UBS Financial Services Inc. of Puerto Rico (PR Financial) (74 FR 20997)

AGENCY: Employee Benefits Security Administration, Department of Labor (the Department).

ACTION: Notice of technical correction.

In the May 6, 2009 issue of the Federal Register, the Department published separate administrative exemptions from the prohibited transaction provisions of the Employee Retirement Income Security Act of 1974 and the Internal Revenue Code of 1986 for: (1) The Bank of New York Mellon Corporation (hereinafter “the BNYMC Grant”); and (2) UBS AG (UBS) and its affiliates UBS Financial Services Inc. (UBS Financial) and UBS Financial Services Inc. of Puerto Rico (PR Financial) (hereinafter “the UBS Grant”).

The Department notes that the operative language of the BNYMC Grant (which begins at the middle of the third column of page 20990 of the May 6, 2009 issue of the Federal Register after the boldface heading “Exemption”) was not preceded by the customary caption indicating the name of the entity seeking the exemption, the prohibited transaction exemption grant number, and the exemption application file number. Accordingly, to correct this publication error, the following caption should be inserted immediately before the boldface heading “Exemption” on page 20990, third column:

The Bank of New York Mellon Corporation (the Applicant), Located in New York, New York

[Prohibited Transaction Exemption 2009-13; Exemption Application Number D-11458]

In addition, the Department notes that the operative language of the UBS Grant (which begins at the middle of the first column of page 20997 of the May 6, 2009 issue of the Federal Register after the boldface heading “Exemption”) was not preceded by the customary caption indicating the name(s) of the entities seeking the exemption, the prohibited transaction exemption grant number, and the exemption application file number(s). Accordingly, to correct this publication error, the following caption should be inserted immediately before the boldface heading “Exemption” on page 20997, first column:

UBS AG (UBS), and Its Affiliates UBS Financial Services Inc. (UBS Financial) and UBS Financial Services Inc. of Puerto Rico (PR Financial), Located, Respectively, in Zurich, Switzerland; New York, New York; and San Juan, Puerto Rico

[Prohibited Transaction Exemption 2009-14; Exemption Application Numbers D-11477, D-11478, and D-11479, Respectively]

FOR FURTHER INFORMATION CONTACT: Mr. Mark Judge, Office of Exemption Determinations, Employee Benefits Security Administration, U.S. Department of Labor, Washington, DC at (202) 693-8339 (this is not a toll-free number).

Signed at Washington, DC, this 15th day of May, 2009.
Alan D. Lebowitz,
Deputy Assistant Secretary for Program Operations, Employee Benefits Security Administration.

[FR Doc. E9-11774 Filed 5-20-09; 8:45 am]

BILLING CODE P